DEPARTMENT OF TRANSPORTATION

Federal Aviation Administration

14 CFR Part 39

[Docket No. FAA-2009-0574; Directorate Identifier 2009-CE-028-AD]

RIN 2120-AA64

Airworthiness Directives; DORNIER LUFTFAHRT GmbH Models 228-100, 228-101, 228-200, 228-201, and 228-202 Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

A stub axle failure of the main landing gear on a Dornier 228-200 aeroplane was reported to RUAG Aerospace. Investigations revealed that the fracture of the axle—manufacturer Part Number (P/N) A-511000B28B was due to fatigue. Already in the year 1993 two failures of P/N A-511000B28B axles occurred. Those events led in 1994 the Luftfahrt-Bundesamt—Germany's National Aviation Authority—to publish Airworthiness Directive (AD) D-1994-042 to mandate the replacement of A-511000B28B axles by improved-design axle with P/N A-511000C28B (Dornier Luftfahrt GmbH Service bulletin 228-214).

It is believed that a misinterpretation of the Dornier 228 repair/maintenance documentation caused inadvertent installation of A-511000B28B axle on the accident aeroplane's main landing gear with P/N A-511000C00F. This configuration was not approved for installation and was therefore not addressed by LBA AD D-1994-042 or Dornier SB-228-214.

The actions specified in this Airworthiness Directive are intended to prevent main landing gear failure, which could result in loss of control of the aeroplane during landing operations.

The proposed AD would require actions that are intended to address the unsafe condition described in the MCAI.

DATES: We must receive comments on this proposed AD by July 27, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Greg Davison, Aerospace Engineer, FAA, Small Airplane Directorate, 901 Locust, Room 301, Kansas City, Missouri 64106; telephone: (816) 329-4130; fax: (816) 329-4090.

SUPPLEMENTARY INFORMATION:

Comments Invited

We invite you to send any written relevant data, views, or arguments about this proposed AD. Send your comments to an address listed under the ADDRESSES section. Include “Docket No. FAA-2009-0574; Directorate Identifier 2009-CE-028-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for the Member States of the European Community, has issued EASA AD No.: 2009-0062, dated March 13, 2009 (referred to after this as “the MCAI”), to correct an unsafe condition for the specified products. The MCAI states:

A stub axle failure of the main landing gear on a Dornier 228-200 aeroplane was reported to RUAG Aerospace. Investigations revealed that the fracture of the axle—manufacturer Part Number (P/N) A-511000B28B was due to fatigue. Already in the year 1993 two failures of P/N A-511000B28B axles occurred. Those events led in 1994 the Luftfahrt-Bundesamt—Germany's National Aviation Authority—to publish Airworthiness Directive (AD) D-1994-042 to mandate the replacement of A-511000B28B axles by improved-design axle with P/N A-511000C28B (Dornier Luftfahrt GmbH Service bulletin 228-214).

It is believed that a misinterpretation of the Dornier 228 repair/maintenance documentation caused inadvertent installation of A-511000B28B axle on the accident aeroplane's main landing gear with P/N A-511000C00F. This configuration was not approved for installation and was therefore not addressed by LBA AD D-1994-042 or Dornier SB-228-214.

The actions specified in this Airworthiness Directive are intended to prevent main landing gear failure, which could result in loss of control of the aeroplane during landing operations.

The MCAI requires inspection of the main landing gear (MLG) and, if applicable, replacement of the MLG stub axle. You may obtain further information by examining the MCAI in the AD docket.

Relevant Service Information

RUAG Aerospace Defence Technology has issued Dornier 228 Service Bulletin SB-228-276, dated October 16, 2008. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

We estimate that this proposed AD will affect 15 products of U.S. registry. We also estimate that it would take about 1 work-hour per product to comply with the basic requirements of this proposed AD. The average labor rate is $80 per work-hour.

Based on these figures, we estimate the cost of the proposed AD on U.S. operators to be $1,200 or $80 per product.

In addition, we estimate that any necessary follow-on actions would take about 16 work-hours and require parts costing $23,734, for a cost of $25,014 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dornier Luftfahrt GmbH: Docket No. FAA-2009-0574; Directorate Identifier 2009-CE-028-AD.

Comments Due Date

(a) We must receive comments by July 27, 2009.

Affected ADs

(b) None.

Applicability

(c) This AD applies to Models Dornier 228-100, Dornier 228-101, Dornier 228-200, Dornier 228-201, and Dornier 228-202 airplanes, all serial numbers, certificated in any category.

Subject

(d) Air Transport Association of America (ATA) Code 32: Landing Gear.

Reason

(e) The mandatory continuing airworthiness information (MCAI) states:

A stub axle failure of the main landing gear on a Dornier 228-200 aeroplane was reported to RUAG Aerospace. Investigations revealed that the fracture of the axle—manufacturer Part Number (P/N) A-511000B28B was due to fatigue. Already in the year 1993 two failures of P/N A-511000B28B axles occurred. Those events led in 1994 the Luftfahrt-Bundesamt—Germany's National Aviation Authority—to publish Airworthiness Directive (AD) D-1994-042 to mandate the replacement of A-511000B28B axles by improved-design axle with P/N A-511000C28B (Dornier Luftfahrt GmbH Service bulletin 228-214).

It is believed that a misinterpretation of the Dornier 228 repair/maintenance documentation caused inadvertent installation of A-511000B28B axle on the accident aeroplane's main landing gear with P/N A-511000C00F. This configuration was not approved for installation and was therefore not addressed by LBA AD D-1994-042 or Dornier SB-228-214.

The actions specified in this Airworthiness Directive are intended to prevent main landing gear failure, which could result in loss of control of the aeroplane during landing operations.

The MCAI requires inspection of the main landing gear (MLG) and, if applicable, replacement of the MLG stub axle.

Actions and Compliance

(f) Unless already done, do the following actions following RUAG Aerospace Defence Technology Dornier 228 Service Bulletin SB-228-276, dated October 16, 2008:

(1) Within the next 14 days after the effective date of this AD, inspect the main landing gear (MLG) stub axle.

(2) If any P/N A-511000B28B stub axle is found, upon accumulation of 9,500 total landings on the axle or before further flight after the effective date of this AD, whichever occurs later, replace the axle or the housing assembly with a new axle P/N A-511000C28B. If the total number of landings accumulated by the stub axle cannot be positively determined, the stub axle must be considered to have accumulated more than 9,500 total landings.

Note 1: Operators that do not have landing (or cycle) records may determine the number of landings (or cycles) by dividing the number of hours time-in-service of each airplane by the time of the average flight for the aircraft of that type in the operator's fleet.

Note 2: P/N A-511000C28B axle together with the housings P/N A-511000C27B and P/N A-521000C27B form the Axle Assemblies P/N AD511010A00C and P/N AD521010A00C, which are life limited to 48,000 landings per the Dornier 228 Time Limits/Maintenance Checks Manual (TLMCM) Chapter 05-10-10.

(3) As of the effective date of this AD, do not install MLG assemblies P/N A-511000C00F and P/N A-521000C00F fitted with a P/N A-511000B28B stub axle on any airplane.

FAA AD Differences

Note 3: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Aerospace Engineer, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to EASA AD No.: 2009-0062, dated March 13, 2009; and RUAG Aerospace Defence Technology Dornier 228 Service Bulletin SB-228-276, dated October 16, 2008, for related information.

Issued in Kansas City, Missouri, on June 19, 2009.
James E. Jackson,
Acting Manager, Small Airplane Directorate, Aircraft Certification Service.

[FR Doc. E9-14994 Filed 6-24-09; 8:45 am]

BILLING CODE 4910-13-P